DEPARTMENT OF DEFENSE

Department of the Air Force

[23-RI-L-03]

Notice of Intent To Grant an Exclusive License With a Joint Ownership Agreement

AGENCY: Department of The Air Force, Department of Defense.

ACTION: Notice of intent.

SUMMARY: Pursuant to the Bayh-Dole Act and implementing regulations, the Department of the Air Force hereby gives notice of its intent to grant an exclusive license with a joint ownership agreement to Raider Technology, an LLC duly organized, validly existing, and in good standing in the State of Ohio having a place of business at 529 Garden Road, Oakwood, Ohio 45419.

DATES: Written objections must be filed no later than fifteen (15) calendar days after the date of publication of this Notice.

ADDRESSES: Submit written objections to Stephen Colenzo, AFRL/RI, 525 Brooks Road, Rome, New York 13441; or Email: stephen.colenzo@us.af.mil. Include Docket No. 23-RI-L-02 in the subject line of the message.

FOR FURTHER INFORMATION CONTACT: Stephen Colenzo, AFRL/RI, 525 Brooks Road, Rome, New York 13441; (315) 330-7665 or Email: stephen.colenzo@us.af.mil.

Abstract of Patent Application(s)

Method and apparatus for a frequency diverse array. Radio frequency signals are generated and applied to a power divider network. A progressive frequency shift is applied to all radio frequency signals across all spatial channels. Amplitude weighting signals are applied for sidelobe control. Phase control is included for channel compensation and to provide nominal beam steering. The progressive frequency offsets generate a new term which cause the antenna beam to focus in different directions as a function of range. Alternative embodiments generate different waveforms to be applied to each radiating element, permitting the transmission of multiple signals at the same time.

Intellectual Property

—WICKS ET AL, U.S. Patent No. 7,319,427, issued on 15 January 2008, and entitled “Frequency Diverse Array with Independent Modulation of Frequency, Amplitude, and Phase.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-07359 Filed 4-6-23; 8:45 am]

BILLING CODE 5001-10-P